DEPARTMENT OF STATE

[Public Notice 5323]

Secretary of State's Advisory Committee on Private International Law: Study Group on International Transport Law: Meeting Notice

There will be a public meeting of a Study Group of the Secretary of State's Advisory Committee on Private International Law on Monday, March 20, 2006, to consider the draft convention on the carriage of goods [wholly or partly] [by sea], under negotiation at the United Nations Commission on International Trade Law (UNCITRAL). The meeting will be held from 1 p.m. to 5 p.m. in the offices of FedEx, 101 Constitution Avenue, NW., 8th floor, Washington, DC 20001.

The purpose of the Study Group meeting is to assist the Departments of State and Transportation in preparing for the next session of the UNCITRAL Working Group on this draft instrument, to be held in New York from April 3 to 13, 2006. The draft text of the convention, document A/CN.9/WG.III/WP.56, is available on UNCITRAL's Web site, http://www.uncitral.org, under the Working Group III (Transport Law) listings. Also available on that Web site is the agenda for the April 2006 session (paragraphs 26-29 of A/CN.9/WG.III/WP.60).

The Study Group meeting is open to the public up to the capacity of the meeting room. Persons who wish to have their views considered are encouraged to submit written comments in advance of the meeting. Comments may be sent electronically to carlsonmh@state.gov. Due to security requirements, one of the following valid ID's will be required for admittance: Any U.S. driver's license with a photo, a passport, or a U.S. government agency ID. Also, anyone planning to attend this meeting should provide their name, affiliation and contact information in advance to Mary Helen Carlson at 202-776-8420, or by e-mail at carlsonmh@state.gov.

David P. Stewart,
Assistant Legal Adviser, Office of the Legal Adviser for Private International Law, Department of State.

[FR Doc. 06-1998 Filed 3-1-06; 8:45 am]

BILLING CODE 4710-08-P